DEPARTMENT OF THE TREASURY

Submission for OMB Review; Comment Request

May 19, 2009.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before June 25, 2009 to be assured of consideration.

Financial Crimes Enforcement Network (FinCEN)

OMB Number: 1506-0022.

Type of Review: Revision.

Title: Customer Identification Programs for Futures Commission Merchants and Introducing Brokers.

Description: Futures commission merchants and introducing brokers are required to develop and maintain a customer identification program. A copy of the program must be maintained for five years. See 31 CFR 103.123.

Respondents: Businesses or other for-profits.

Estimated Total Reporting Burden: 307,065 hours.

OMB Number: 1506-0034.

Type of Review: Extension.

Title: Customer Identification Programs for Broker-Dealers.

Description: Broker-dealers are required to establish and maintain a customer identification program. A copy of the program must be maintained for five years. See 31 CFR 103.122.

Respondents: Businesses or other for-profits.

Estimated Total Reporting Burden: 630,896 hours.

Clearance Officer: Russell Stephenson (202) 354-6012, Department of the Treasury, Financial Crimes Enforcement Network, P.O. Box 39, Vienna, VA 22183.

OMB Reviewer: Shagufta Ahmed (202) 395-7873, Office of Management and Budget, Room 10235, New Executive Office Building, Washington, DC 20503.

Celina Elphage,
Treasury PRA Clearance Officer.

[FR Doc. E9-12126 Filed 5-22-09; 8:45 am]

BILLING CODE 4810-02-P